DEPARTMENT OF COMMERCE

National Institute of Standards and Technology

Visiting Committee on Advanced Technology

AGENCY: National Institute of Standards and Technology, Department of Commerce.

ACTION: Notice of open meeting.

SUMMARY: : National Institute of Standards and Technology (NIST)'s Visiting Committee on Advanced Technology (VCAT or Committee) will meet on Wednesday, February 8, 2023, from 8:30 a.m. to 5:00 p.m. Eastern Time, and Thursday, February 9, 2023, from 8:30 a.m. to 12:00 p.m. Eastern Time.

DATES: The VCAT will meet on Wednesday, February 8, 2023, from 8:30 a.m. to 5:00 p.m. and Thursday, February 9, 2023, from 8:30 a.m. to 12:00 p.m. Eastern Time.

ADDRESSES: The meeting will be held at the National Cybersecurity Center of Excellence, 9700 Great Seneca Highway, Rockville, Maryland, 20850 with an option to participate via webinar. Please note admittance instructions under the SUPPLEMENTARY INFORMATION section of this notice.

FOR FURTHER INFORMATION CONTACT: Stephanie Shaw, VCAT, NIST, 100 Bureau Drive, Mail Stop 1060, Gaithersburg, Maryland 20899-1060, telephone number 240-446-6000. Ms. Shaw's email address is stephanie.shaw@nist.gov.

SUPPLEMENTARY INFORMATION: Pursuant to the Federal Advisory Committee Act, as amended, 5 U.S.C. App., notice is hereby given that the VCAT will meet on Wednesday, February 8, 2023, from 8:30 a.m. to 5:00 p.m. Eastern Time and Thursday, February 9, 2023, from 8:30 a.m. to 12:00 p.m. Eastern Time. The meeting will be open to the public. The VCAT is composed of not fewer than 9 members appointed by the NIST Director, eminent in such fields as business, research, new product development, engineering, labor, education, management consulting, environment, and international relations. The primary purpose of this meeting is for the VCAT to review and make recommendations regarding general policy for NIST, its organization, its budget, and its programs within the framework of applicable national policies as set forth by the President and the Congress. The agenda will include an update on major programs at NIST. Each of the three subcommittees: Subcommittee on Alignment of Manufacturing Efforts, Subcommittee on Visibility Improvement, and Subcommittee on Workforce Development Efforts will present their recommendations to the full Committee. The Committee will also present its initial observations, findings, and recommendations for the 2022 VCAT Annual Report. The agenda may change to accommodate Committee business. The final agenda will be posted on the NIST website at http://www.nist.gov/director/vcat/agenda.cfm.

Individuals and representatives of organizations who would like to offer comments and suggestions related to the Committee's business are invited to request a place on the agenda by no later than 5:00 p.m. Eastern Time, Wednesday, February 1, 2023 by contacting Stephanie Shaw at stephanie.shaw@nist.gov. Approximately one-half hour will be reserved for public comments and speaking times will be assigned on a first-come, first-serve basis. The amount of time per speaker will be determined by the number of requests received but, is likely to be about 3 minutes each. The exact time and date for public comments will be included in the final agenda that will be posted on the NIST website at http://www.nist.gov/director/vcat/agenda.cfm. Questions from the public will not be considered during this period. Speakers who wish to expand upon their oral statements, those who had wished to speak but could not be accommodated on the agenda, and those who were unable to attend in person or via webinar are invited to submit written statements to Stephanie Shaw at stephanie.shaw@nist.gov.

For participants attending via webinar, please contact Ms. Shaw at stephanie.shaw@nist.gov for detailed instructions on how to join the webinar by 5:00 p.m. Eastern Time, Wednesday, February 1, 2023. For participants wishing to attend in person, please submit your name, time of arrival, email address, and phone number to Hope Fato, hope.fato@nist.gov by 5:00 p.m. Eastern Time, Wednesday, February 1, 2023. For detailed information please contact Ms. Fato at hope.fato@nist.gov.

Authority: 15 U.S.C. 278, as amended, and the Federal Advisory Committee Act, as amended, 5 U.S.C. App.

Alicia Chambers,
NIST Executive Secretariat.

[FR Doc. 2022-27232 Filed 12-14-22; 8:45 am]

BILLING CODE 3510-13-P